DEPARTMENT OF LABOR

Office of the Secretary

Submission for OMB Review; Comment Request

February 28, 2000.

The Department of Labor (DOL) has submitted the following public information collection requests (ICRs) to the Office of Management and Budget (OMB) for review and approval in accordance with the Paperwork Reduction Act of 99 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by e-mail to Kurz-Karin@dol.gov). To obtain documentation for ESA, MSHA, OSHA, and VETS contact Darrin King ((202) 219-5096 ext. 151 or by e-mail to King-Darrin@dol.gov).

Comments should be sent to Office of Information and Regulatory Affairs, Attn: OMB Desk Officer for BLS, DM, ESA, ETA, MSHA, OSHA, PWBA, or VETS; Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Reviews: Extension of a currently approved collection.

Agency: Occupational Safety and Health Administration.

Title: Benzene (29 CFR 1910.1028).

OMB Number: 1218-0129.

Frequency: On occasion.

Affected Public: Business or other for-profit; Federal Government; State, Local or Tribal Government.

Number of Respondents: 13,498.

Estimated Time per Respondent: Time per response ranges from approximately 5 minutes for employers to maintain employee exposure monitoring and medical records to 4 hours to complete a referral medical examination.

Total Burden Hours: 125,195 hours.

Total Annualized Capital/Startup: $0.

Total Annual Cost (operating/maintaining systems or purchasing services): $8,179,933.

Description: The Benzene Standard, and its information collection requirements, is designed to provide protection for employees from the adverse health effects associated with occupational exposure to benzene. The Benzene Standard requires employers to monitor employee exposure to benzene, to monitor employee health, and to provide employees with information about their exposures and the health effects of exposure to benzene.

Type of Review: Extension of a currently approved collection.

Agency: Mine Safety and Health Administration.

Title: Roof Control Plan.

OMB Number: 1219-0004.

Frequency: On occasion.

Affected Public: Business or other for-profit.

Number of Respondents: 1,030.

Estimated Time per Respondent: 1.7 hours.

Total Burden Hours: 5,967.

Total Annualized Capital/Startup Costs: $0.

Total Annual Costs (operating/maintaining systems or purchasing services): $5,585.

Description: Requires that a roof control plan and revisions thereof suitable to the roof conditions and mining system of each coal mine be approved by MSHA before implementation by the mine operator. Also requires the mine operator to plot on a mine map each unplanned roof or rib fall and coal or rock burst that occurs in the active workings when certain criteria are met.

Type of Review: Extension of a currently approved collection.

Agency: Mine Safety and Health Administration.

Title: Notification of commencement of Operations and closing of Mines.

OMB Number: 1219-0092.

Frequency: On occasion.

Affected Public: Business or other for-profit.

Number of Respondents: 2,300.

Estimated Time per Respondent: 0.125 hours.

Total Burden Hours: 259 hours.

Total Annualized Capital/Startup Costs: $0.

Total Annual Costs (operating/maintaining systems or purchasing services): $1,442.

Description: Under 30 C.F.R. 56.1000 and 57.1000, operators of metal and nonmetal mines must notify the Mine Safety and Health Administration (MSHA) when the operation of a mine will commence or when a mine is closed. Openings and closings of mines are dictated by the economic strength of the commodity mined, and by weather conditions which prevail at the mine site during various seasons.

Type of Review: Extension of a currently approved collection.

Agency: Employment and Training Administration.

Title: Trade Adjustment Assistance/NAFTA (Financial Status/Requests for Funds Report).

OMB Number: 1205-0275.

Form Number: ETA-9023.

Affected Public: State, Local, or Tribal Government.

Report activity | Number of respondents | Frequency | Total number of responses | Average time per response (hours) | Total burden (hours)
TAA | 50 | 5 | 250 | 2 | 500
NAFTA | 50 | 5 | 250 | 2 | 500
Totals | 50 | 10 | 500 | 2 | 1000

Total Annualized Capital/Startup Costs: $0.

Total Annual Costs (operating/maintaining systems or purchasing services): $26,000.

Description: The Department of Labor requires financial data for the Trade Adjustment Assistance (TAA) program administered by States which are not available from the Standard Form 269. The required data are necessary in order to meet statutory requirements prescribed in Public Law 100-418, the Omnibus Trade and Competitiveness Act of 1988 and the North American Free Trade Agreement Implementation Act (Pub. L. 103-182) in accordance with section 250 (a) Subchapter D, Chapter 2, Title II of the Trade Act of 1974.

Karin G. Kurz,
Acting Departmental Clearance Officer.

[FR Doc. 00-5341 Filed 3-3-00; 8:45 am]

BILLING CODE 4510-22-M